DEPARTMENT OF ENERGY

Federal Energy Regulatory Commission

[Docket No. PF08-17-000]

Maritimes & Northeast Pipeline L.L.C.; Notice of Intent To Prepare an Environmental Assessment for the Proposed Maritimes Phase V Project and Request for Comments on Environmental Issues

June 19, 2008.

The staff of the Federal Energy Regulatory Commission (FERC or Commission) will prepare an environmental assessment (EA) that will address the environmental impacts of the Maritimes Phase V Project proposed by Maritimes & Northeast Pipeline, L.L.C. (Maritimes). The Commission will use the EA in its decision-making process to determine whether or not to authorize the project. This notice explains the scoping process we ¹ will use to gather environmental input from the public and interested agencies on the projects. Your input will help the Commission determine the issues that need to be evaluated in the EA. Please note that the scoping period will close on July 21, 2008.

¹ “We,” “us,” and “our” refer to the environmental staff of the FERC's Office of Energy Projects.

Details on how to submit written comments are provided in the Public Participation section of this notice.

This Notice of Intent to Prepare an Environmental Assessment for the Proposed Maritimes Phase V Project (NOI) is being sent to federal, state, and local government agencies; elected officials; affected landowners; environmental and public interest groups; Native American tribes; and other interested parties; and local libraries and newspapers. We encourage government representatives to notify their constituents of this planned project and encourage them to comment on their areas of concern.

If you are a landowner receiving this notice, you may be contacted by a pipeline company representative about the acquisition of an easement to construct, operate, and maintain the proposed project facilities. Each pipeline company would seek to negotiate a mutually acceptable agreement for its project. However, if the projects are approved by the Commission, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

Maritimes proposes to construct, own, operate, and maintain certain natural gas transportation facilities within the states of Maine and Massachusetts. The general locations of the proposed pipeline and compression facilities are shown in the figures included as Appendix 1.²

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Public Participation section of this notice. Copies of the appendices were sent to all those receiving this notice in the mail. Requests for detailed maps of the proposed facilities should be made directly to Maritimes.

The purpose of the project is to provide transportation service for gas from a new gas field (“Deep Panuke”) located offshore of Nova Scotia to the New England market area. The Maritimes Phase V Project would increase the capacity of Maritimes existing system by about 250,000 dekatherms per day.

Maritimes proposes to construct:

• About four miles of 36-inch-diameter pipeline loop (Richmond Loop) extending south from the existing Richmond Compressor Station in Sagadahoc County, Maine; and

• A fenced loop terminus site at the southern end of the Richmond Loop which would include a pig receiver and valves.

Maritimes would add compression and modify the following compressor stations in Maine:

• Baileyville Compressor Station (existing)—additional 8,960 horsepower (HP) of compression, additional cooling, and restaging of existing compressor units (Washington County);

• Woodchopping Ridge Compressor Station (under construction)—additional 8,960 HP of compression, additional cooling, and restaging of existing compressor unit (Hancock County);

• Brewer Compressor Station (under construction)—additional 8,960 HP of compression, additional cooling, and restaging of existing compressor unit (Penobscot County);

• Searsmont Compressor Station (under construction)—additional 8,960 HP of compression, additional cooling, and restaging of existing compressor unit (Waldo County);

• Richmond Compressor Station (existing)—additional 8,960 HP of compression, additional cooling, and restaging of existing compressor units (Sagadahoc County); and

• Eliot Compressor Station (under construction)—additional 18,085 HP of compression, additional cooling, and restaging of existing compressor unit (York County).

In addition, Maritimes would:

• Install additional meter and regulator runs and replace equipment at the existing Dracut Meter Station (Middlesex County, Massachusetts); and

• Uprate the Maximum Allowable Operating Pressure on the existing 24-inch-diameter pipeline from 1,440 pounds per square inch gauge (psig) to 1,600 psig between the Baileyville Compressor Station and the Westbrook Compressor Station. This uprate would require the modification of the existing valves and meter stations at 23 locations along the existing pipeline. No ground disturbance would be required at 18 of the locations.³

³ Maritimes does not expect excavation to be necessary at most of the uprate facilities. Maritimes has identified five locations that would require excavation: The Veazie Tap Valve (Penobscot County, Maine); the Orrington Meter Station and associated valve (Penobscot County, Maine); the Bowdoin Meter Station and associated valve (Sagadahoc County, Maine); the Lewiston Meter Station and associated valve (Cumberland County, Maine); and the Westbrook PNGTS Inlet Meter Station (Cumberland County, Maine).

Work at the compressor stations is proposed to begin in July 2009. Construction of the Richmond Loop and the other modifications are proposed to begin in 2010. The proposed in-service date for the Phase V facilities is November 1, 2010.

Land Requirements for Construction

Construction of the Richmond Loop would disturb about 50 acres of land. After construction Maritimes would retain 11.9 acres as new permanent right-of-way.

Generally, the width of the proposed construction right-of-way for the Richmond Loop would be 105 feet. The construction right-of-way way would consist of: the 50-foot-wide permanent right-of-way for the existing 24-inch-diameter pipeline; a new 25-foot-wide permanent right-of-way for the loop (which would abut the existing permanent right-of-way); and a 30-foot-wide temporary right-of-way. The construction right-of-way would be reduced in areas containing sensitive resources such as wetlands and stream banks.

Work at the aboveground facilities (compressor stations, meter stations, and valves) would take place within the existing fenceline of the facility except for the Orrington Meter Station and the Richmond Compressor Station.

Additional temporary extra workspaces beyond the typical construction right-of-way limits would be required at certain feature crossings (e.g., roads, railroads, wetlands, or waterbodies, utilities), in areas with steep side slopes, in association with special construction techniques and for topsoil segregation. Maritimes would access its project construction areas primarily along the existing pipeline right-of-way and existing roads; however, other access roads may be required during construction. One new permanent access road would access the Richmond Loop terminus site.

The EA Process

The National Environmental Policy Act (NEPA) requires the Commission to take into account the environmental impacts that could result from an action when it considers whether or not an interstate natural gas pipeline should be approved. The FERC will use the EA to consider the environmental impact that could result if the Projects are authorized under section 7 of the Natural Gas Act. NEPA also requires us to discover and address concerns the public may have about proposals to be considered by the Commission. This process is referred to as “scoping.” The main goal of the scoping process is to focus the analysis in the EA on the important environmental issues. With this Notice of Intent, the Commission staff is requesting public comments on the scope of the issues to be addressed in the EA. All comments received will be considered during preparation of the EA.

In the EA we will discuss impacts that could occur as a result of the construction and operation of the proposed project under these general headings:

• Geology and soils;

• Land use;

• Water resources, fisheries, and wetlands;

• Cultural resources;

• Vegetation and wildlife;

• Threatened and endangered species;

• Air quality and noise;

• Hazardous waste; and

• Public safety.

In the EA, we will also evaluate possible alternatives to the proposed projects or portions of the projects, and make recommendations on how to lessen or avoid impacts on affected resources.

Although no formal application has been filed, the FERC staff has already initiated its NEPA review under its NEPA Pre-filing Process. The purpose of the Pre-filing Process is to encourage the early involvement of interested stakeholders and to identify and resolve issues before an application is filed with the FERC.

With this NOI, we are asking federal, state, and local agencies with jurisdiction and/or special expertise with respect to environmental issues to formally cooperate with us in the preparation of the EA (see Appendix 2). These agencies may choose to participate once they have evaluated the proposal relative to their responsibilities. Additional agencies that would like to request cooperating agency status should follow the instructions in Appendix 2 of this NOI.

Public Participation

You can make a difference by providing us with your specific comments or concerns about the Maritimes Phase V Project. Your comments should focus on the potential environmental effects, reasonable alternatives, and measures to avoid or lessen environmental impacts. The more specific your comments, the more useful they will be. To ensure that your comments are timely and properly recorded, please send in your comments so that they will be received in Washington, DC on or before July 21, 2008.

For your convenience, there are three methods which you can use to submit your comments to the Commission. In all instances please reference the project docket number PF08-17-000 with your submission. The docket number can be found on the front of this notice. The Commission encourages electronic filing of comments and has dedicated eFiling expert staff available to assist you at 202-502-8258 or efiling@ferc.gov.

(1) You may file your comments electronically by using the Quick Comment feature, which is located on the Commission's internet Web site at http://www.ferc.gov under the link to Documents and Filings. A Quick Comment is an easy method for interested persons to submit text-only comments on a project;

(2) You may file your comments electronically by using the eFiling feature, which is located on the Commission's internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 2, PJ11.2.

Environmental Mailing List

We might mail the EA for comment. If you are interested in receiving it, please return the Mailing List Retention Form (Appendix 3). If you do not return the Information Request, you will be taken off the mailing list.

Additional Information

Additional information about the project is available from the Commission's Office of External Affairs, at 1-866-208-FERC (3372) or on the FERC Internet Web site (http://www.ferc.gov) using the “eLibrary link.” Click on the eLibrary link, select “General Search” and enter the project docket number excluding the last three digits (PF08-17) in the “Docket Number” field. Be sure you have selected an appropriate date range. For assistance, please contact FERC Online Support at FERCOnlineSupport@ferc.gov or toll free at 1-866-208-3676, or TTY, contact (202) 502-8659. The eLibrary link on the FERC Internet website also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Maritimes has also established an Internet Web site for the Maritimes Phase V Project at: http://www.mnpp.com/USA/new.htm. The Maritimes Web site includes contact information and information about its proposed project. You may also use Maritimes' toll free telephone number, 1-800-738-4880.

Kimberly D. Bose,
Secretary.

[FR Doc. E8-14454 Filed 6-25-08; 8:45 am]

BILLING CODE 6717-01-P